ENVIRONMENTAL PROTECTION AGENCY

[ER-FRL-6654-1]

Environmental Impact Statements; Notice of Availability

Responsible Agency: Office of Federal Activities, General Information (202) 564-7167 or http://www.epa.gov/compliance/nepa

Weekly receipt of Environmental Impact Statements

Filed July 19, 2004 Through July 23, 2004

Pursuant to 40 CFR 1506.9.

EIS No. 040339, Draft EIS, NPS, GA, Chattahoochee River National Recreation Area General Management Plan, Implementation, Chattahoochee River, Atlanta, GA, Comment Period Ends: September 13, 2004, Contact: Dave Elk (678) 538-1321.

EIS No. 040340, Final EIS, NRS, TN, Cane Creek Watershed Remedial Plan, Widening and Degradation of the Cane Creek Channel, Lauderdale County, TN, Wait Period Ends: August 30, 2004, Contact: James W. Ford (615) 277-2531.

EIS No. 040341, Final EIS, NPS, NY, Saratoga National Historical Park General Management Plan, Implementation, Hudson River Valley, Towns of Stillwater and Saratoga, Saratoga County, NY, Wait Period Ends: August 30, 2004, Contact: Doug Lindsay (518) 664-9821.

EIS No. 040342, Draft EIS, AFS, MT, Gallatin National Forest, Main Boulder Fuels Reduction Project, Implementation, Gallatin National Forest, Big Timber Ranger District, Big Timber, Sweet Grass and Park Counties, MT, Comment Period Ends: September 13, 2004, Contact: Barbara Ping (406) 522-2570. This document is available on the Internet at: http://www.fs.fed.us/r1/gallatin/?page=projects.main_boulder.

EIS No. 040343, Draft EIS, FHW, OH, U.S. 33, Nelsonville Bypass Project, To Upgrade Existing Four-Lane Controlled Access Expressway between Haydenville in Hocking County and New Floodwood in Hocking and Athens Counties, OH, Comment Period Ends: September 13, 2004, Contact: Davis Synder (614) 280-6852.

EIS No. 040344, Draft EIS, AFS, AL, Longleaf Ecosystem Restoration Project, Proposes a Five-Year Project to Begin Restoration of Native Longleaf, Talladega National Forest, Oakmulgee District, Tuscaloosa, Hale, Bibbs and Perry Counties, AL, Comment Period Ends: September 13, 2004, Contact: Jim Shores (205) 926-9765.

EIS No. 040345, Final EIS, NOA, WA, ID, OR, CA, Pacific Coast Groundfish Fishery Management Plan, Amendment 16-3 Adopts Rebuild Plans for Bocaccio, Cowcod, Widow Rockfish and Yelloweye Rockfish, Maximum Sustainable Yield (MSY), Implementation, WA, OR, ID and CA, Wait Period Ends: August 30, 2004, Contact: D. Robert Lohn (206) 526-6150. This document is available on the Internet at: http://www.pcouncil.org/nepa/nepatrack.html.

EIS No. 040346, Final EIS, DOE, OR, Northeast Oregon Hatchery Program, Grande Ronde—Imnaha Spring Chinook Hatchery Modification and Modernization of Two Existing Hatchery Facilities and Construction of Three New Auxiliary Hatchery Facilities, Wallowa County, OR, Wait Period Ends: August 30, 2004, Contact: Mickey Carter (503) 230-5885.

EIS No. 040347, Final EIS, UAF, WV, Aircraft Conversion for the 167th Air Wing (167 AW) of the West Virginia Air National Guard, Converting C-13OH Transport Aircraft to the Larges C-5 Transport Aircraft, Acquisition of Land via Lease, and Construction of Facilities on existing and acquired Parcel, Berkely County, WV, Wait Period Ends: August 30, 2004, Contact: Ray Detig (301) 836-8120.

Dated: July 27, 2004.
Ken Mittelholtz,
Environmental Protection Specialist, Office of Federal Activities.

[FR Doc. 04-17381 Filed 7-29-04; 8:45 am]

BILLING CODE 6560-50-U